DEPARTMENT OF DEFENSE

Department of the Army

Army Science Board; Notice of Open Meeting

In accordance with section 10(a)(2) of the Federal Advisory Committee Act (P.L. 92-463), announcement is made of the following Committee Meeting:

Name of Committee: Army Science Board (ASB) Analysis Panel.

Date of Meeting: 26-29 Mar 2001.

Time of Meeting: 0900-1700.

Places:

26 Mar RAND

27 Mar ICT

28 Mar Sandia Labs

29 Mar WSMR

Agenda: The Analysis Panel of the Army Science Board's (ASB) Summer Study will visit RAND, ICT, Sandia Labs and WSMR. These meetings will be open to the public. Any interested person may attend, appear before, or file statements with the committee at the time and in the manner permitted by the committee. For further information, please contact Karen Williams at (407) 384-3937.

Wayne Joyner,
Program Support Specialist, Army Science Board.

[FR Doc. 01-7764 Filed 3-28-01; 8:45 am]

BILLING CODE 3710-OF-M